DEPARTMENT OF LABOR

Employment and Training Administration

[TA-W-50,285]

Fiber-Line, Inc.; Hickory, North Carolina; Notice of Termination of Investigation

Pursuant to section 221 of the Trade Act of 1974, an investigation was initiated on December 10, 2002, in response to a worker petition filed by a company official on behalf of workers at Fiber-Line, Inc. Hickory, North Carolina.

The company has requested that the petition be withdrawn. Consequently, further investigation in this case would serve no purpose, and the investigation has been terminated.

Signed in Washington, DC this 15th day of January, 2003.
Richard Church,
Certifying Officer, Division of Trade Adjustment Assistance.

[FR Doc. 03-2553 Filed 2-3-03; 8:45 am]

BILLING CODE 4510-30-P